DEPARTMENT OF THE INTERIOR

National Park Service

Environmental Impact Statement; Merced Wild and Scenic River Comprehensive Management Plan; Yosemite National Park, Madera and Mariposa Counties, California; Revision to Record of Decision

SUMMARY: The Department of the Interior, National Park Service has revised the original Record of Decision for the Final Environmental Impact Statement, Merced Wild and Scenic River Comprehensive Management Plan, Yosemite National Park. The Record of Decision was originally signed on August 9, 2000 and published in the Federal Register on August 18, 2000. The Revised Record of Decision is designed to clarify statements regarding the process to be used by the National Park Service in complying with § 7 of the Wild and Scenic Rivers Act and to clarify the measurement of the river corridor boundaries and the river protection overlay. The Record of Decision was issued after completion of Draft and Final Environmental Impact Statements for the Merced Wild and Scenic River Comprehensive Management Plan.

SUPPLEMENTARY INFORMATION:

I. Background

Pursuant to § 102(2)(C) of the National Environmental Policy Act of 1969 (P.L. 91-190, as amended) and the regulations promulgated by the Council on Environmental Quality (40 CFR Part 1500), and in accord with a ruling of the U.S. District Court for the Eastern District of California, the National Park Service (NPS) prepared and circulated a Draft and Final Environmental Impact Statement for the Merced Wild and Scenic River Comprehensive Management Plan (“Plan”). The Plan was designed to satisfy the Wild and Scenic Rivers Act's requirements for a Comprehensive Management Plan. To achieve this goal, the Plan presented five alternatives for NPS stewardship of an 81-mile segment of the 122 miles of the Merced River designated as “Wild and Scenic” by Congress in 1987. Each of the alternatives presented a different combination of seven management elements to prescribe desired future conditions, typical visitor activities and experiences, and allowed park facilities and management activities. The seven management elements are: boundaries, classifications, Outstandingly Remarkable Values, a determination process to comply with § 7 of the Act, the River Protection Overlay, management zoning, and the Visitor Experience and Resource Protection framework.

The Draft and Final Environmental Impact Statements assessed the full range of foreseeable environmental consequences and identified all practicable measures to avoid or minimize environmental impacts. More than 2,500 comments were received on the Draft Environmental Impact Statement and approximately 30 comments were received following the release of the Final Environmental Impact Statement (FEIS). All public comments received were carefully reviewed and considered prior to making a decision on the Plan.

A Record of Decision on the Plan was approved on August 9, 2000 and the Notice of Approval of the Record of Decision appeared in the Federal Register on August 18, 2000 (65 FR 50565). In that Record of Decision, the NPS adopted the Proposed Action (Alternative 2), as described in the FEIS. As explained in the original Record of Decision, the primary feature that distinguished Alternative 2 from the other alternatives is the interplay of four of its management elements: boundaries, classifications, River Protection Overlay and management zoning. The NPS determined that Alternative 2 would protect and enhance the river's ORVs while allowing for appropriate levels and types of visitor use and development.

II. Reason for Revision

The Record of Decision is being revised to clarify that all statements in the FEIS and Record of Decision regarding the Army Corps of Engineers' definition of the “ordinary high water mark” shall reflect the regulatory definition of that term as found in 33 CFR Section 328.3. This clarification will eliminate text that inaccurately summarized the definition of ordinary high water mark as the 2.33 year floodplain. The regulatory definition of ordinary high water mark as published in the Code of Federal Regulations does not include any reference to the 2.33 year floodplain. Instead, the regulatory definition states: “The term “ordinary high water mark” means that line on the shore established by the fluctuations of water and indicated by physical characteristics such as clear, natural line impressed on the bank, shelving, changes in the character of soil, destruction of terrestrial vegetation, the presence of litter and debris, or other appropriate means that consider the characteristics of the surrounding areas.”

This regulatory definition will be used by the NPS for measuring the extent of the River Protection Overlay and the river corridor boundaries. The river corridor boundaries established by this Plan begin at the ordinary high water mark (as defined by the U.S. Army Corps of Engineers in 33 CFR Section 328.3) and extend one-quarter mile on each side of the river, except in the El Portal Administrative Site where the boundary extends out to the 100-year floodplain or the extent of the River Protection Overlay, whichever is greater. Similarly, the River Protection Overlay will be measured beginning from the ordinary high water mark.

The Record of Decision is also being revised to clarify statements in the FEIS regarding the process to be used for fulfilling the requirements of § 7 of the Wild and Scenic Rivers Act. The Merced River Plan/FEIS includes statements that “Water resources projects that have a direct and adverse effect on the values for a designated river must either be redesigned and resubmitted for a subsequent § 7 determination, abandoned, or may proceed following written notification of the Secretary of the Interior and the United States Congress.” This statement inaccurately summarized the intent of the NPS. The following process will be used by the NPS for projects requiring § 7 review. Water resources projects found to have a direct and adverse effect on the values of this designated river will be redesigned and resubmitted for a subsequent § 7 determination or abandoned. In the event that a project can not be redesigned to avoid direct and adverse effects on the values for which the river was designated, the NPS will either abandon the project or will advise the Secretary of the Interior in writing and report to Congress in writing in accordance with § 7(a) of the Act .

The NPS has reviewed these revisions to determine whether there are any new or different impacts associated with these clarifications. The clarification with regard to the § 7 process does not diminish or change the NPS's obligations to comply with § 7 of the Act, nor does it modify the steps to be followed by the NPS in evaluating whether a project would have a direct and adverse affect on river values. The clarification with regard to the definition of ordinary high water is intended to more accurately reflect the regulatory definition of that term. This clarification does not alter the extent of the river corridor boundaries, and it does not change the use of the River Protection Overlay as a tool to protect areas immediately adjacent to the river. Because these revisions are minor clarifications and do not result in changes to the management elements contained in Alternative 2, they do not result in substantial changes relevant to environmental concerns. These modifications are also not in response to significant new information.

Copies: Interested parties desiring to obtain a copy of the Revised Record of Decision may contact the Superintendent, Yosemite National Park, P.O. Box 577, Yosemite, California 95389 (or via telephone request at (209) 372-0201). The complete document will also be posted on the Yosemite National Park Webpage (http://www.nps.gov/yose/planning).

Dated: November 3, 2000.
John J. Reynolds,
Regional Director, Pacific West.

[FR Doc. 00-29550 Filed 11-17-00; 8:45 am]

BILLING CODE 4310-70-P